DEPARTMENT OF STATE

22 CFR Parts 22 and 51

[Public Notice: 5888]

RIN 1400-AC39

Passport Procedures—Amendment to Expedited Passport Processing Regulation

AGENCY: Department of State.

ACTION: Interim final rule.

SUMMARY: This interim final rule changes the definition of “expedited passport processing” from the 3-business day period to a number of business days as may be published from time to time on the Department's Web site, http://www.travel.state.gov. This change is meant to ensure that the Department can continue to offer this service consistent with its regulations, despite increases in demand for it. It is also meant to ensure that the public can easily determine the current standards for expedited passport processing. Further, this interim final rule makes a conforming amendment to the Schedule of Fees for Consular Services.

DATES: Effective date: This interim final rule becomes effective August 16, 2007.

Comment date: The Department of State will accept written comments from interested persons up to October 15, 2007.

ADDRESSES: Interested parties may submit comments at any time by any of the following methods:

• Mail (paper, disk, or CD-ROM submissions): Comments by mail are to be addressed to the Office of Legal Affairs and Law Enforcement, U.S. Department of State, 2100 Pennsylvania Ave., NW., Suite 300, Washington, DC 20037.

• Internet: Comments by Internet are to be sent to http://www.regulations.gov. This notice can also be viewed from this Internet address.

• Electronically: You may submit electronic comments to ExpediteRuleComments@state.gov. You must include the RIN in the subject line of your message. Attachments must be in Microsoft Word.

Instructions: All submissions must include the agency name and docket number. All comments will be posted without change to http://www.regulations.gov, including any personal information sent with each comment.

FOR FURTHER INFORMATION CONTACT: Requests for additional information regarding this regulatory amendment should be directed to Susan M. Bozinko, Bureau of Consular Affairs, Passport Services, Division of Legal Affairs, U.S. Department of State, Washington, DC 20037, who may be reached at 202-663-2491 or e-mailed at BozinkoSM@state.gov.

SUPPLEMENTARY INFORMATION: Section 7209 of the Intelligence Reform and Terrorism Prevention Act (IRTPA), enacted on December 17, 2004, requires the Secretary of Homeland Security, in consultation with the Secretary of State, to develop expeditiously a plan to require most U.S. citizens and certain other categories of individuals to present a passport or other documentation of identity and citizenship deemed sufficient by the Secretary of Homeland Security when entering the United States.

The Department of State's Office of Passport Services (Passport Services) began planning for increased passport demand even before Congress passed IRTPA. It planned for a sharp increase in passport applications and anticipated the need for increased staff to handle the demand. Recognizing the uncertainty of passport demand and the need for reliable information to guide its planning efforts, Passport Services contracted for a passport demand study in 2005, and used the data from this study to initiate a program of resource upgrades for meeting demand.

Beginning in February 2007, it became apparent that passport demand was growing faster than the study projected. While the demand study anticipated a sharp increase in applications, it did not fully anticipate the degree and speed with which the American people would comply with Western Hemisphere Travel Initiative (WHTI) guidelines. Therefore, Passport Services has implemented additional short-term and more long-term measures to attempt to address the increase in passport demand and provide Americans with passports in a timely and secure manner.

Despite these efforts, the surge in passport applications has led to increases in processing times, and concurrent increases in requests from the public for expedited passport processing. 22 CFR 51.66(b) currently sets a 3-business-day standard for processing expedited passport applications, commencing when the application reaches a Passport Agency or, if the application is already with a Passport Agency commencing when the request for expedited processing is approved. This standard was set by the Department in 1994, (59 FR 48998 (Sep. 26, 1994)), to allow Passport Services to provide expedited services to applicants with urgent departures, and to recover the costs of providing such service. In order to allow Passport Services the flexibility to meet the surge in demand for expedited processing, and to continue to offer this service to the public consistent with its regulations, Passport Services is revising this standard.

Under the new standard, the public will be notified on the Department's Web site, http://www.travel.state.gov, of the number of business days in which the Department is completing expedited processing. This will allow the Department flexibility to alert the public without delay of the current processing time for expedited requests. The public benefits from this change by having accurate notice of the service that will be provided to them and from having the service available from the Department. We believe this will allow the public to continue to consider using expedited processing to self-select urgent cases.

We are also amending the Schedule of Fees for Consular Services to reflect this change in the expedited passport processing rule.

Regulatory Findings

Administrative Procedure Act

The Department is publishing this rule as an interim final rule, with a 60-day provision for post-promulgation public comments, based on the “good cause” exceptions set forth at 5 U.S.C. 553(b)(3)(B) and 553(d)(3). Publishing the rule this way will allow the Department to make the rule effective at the earliest opportunity, ensuring that Passport Services may continue to offer this service to the public without interruption and consistent with its regulations. The public benefits from having the service available because it allows persons wishing to obtain a passport for urgent travel or other reasons to have their passport applications processed on an expedited basis. Therefore, allowing a comment period followed by a publication of the final rule with a further 30 days before its effective date is not practicable or in the public interest. Comments received before the end of the comment period will be addressed in a final rule.

Regulatory Flexibility Act

The Department of State, in accordance with the Regulatory Flexibility Act (5 U.S.C. 605(b)), has reviewed this regulation, and, by approving it, certifies that this rule is not expected to have a significant economic impact on a substantial number of small entities because only individuals can apply for passports.

Unfunded Mandates Reform Act of 1995

This rule will not result in the expenditure by State, local, and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of the U.S.-based companies to compete with foreign based companies in domestic and import markets.

Executive Order 12866

OMB considers this rule to be a “significant regulatory action” under Executive Order 12866, section 3(f). Accordingly, this rule has been submitted to OMB for review. In addition, the Department is exempt from Executive Order 12866 except to the extent that it is promulgating regulations, in conjunction with a domestic agency, that are significant regulatory actions. The Department has nevertheless reviewed the regulation to ensure its consistency with the regulatory and philosophy and principles set forth in Executive Order 12866.

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or recordkeeping requirements subject to the Paperwork Reduction Act, 44 U.S.C. Chapter 35.

List of Subjects in 22 CFR Parts 22 and 51

Passports and Visas.

Accordingly, for the reasons set forth above, Title 22, parts 22 and 51 are amended as follows:

PART 22—SCHEDULE OF FEES FOR CONSULAR SERVICES—DEPARTMENT OF STATE AND FOREIGN SERVICES

1. The authority citation for part 22 continues to read as follows:

Authority: 8 U.S.C. 1153 note, 1351, 1351 note; 10 U.S.C. 2602(c); 22 U.S.C. 214, 2504(a), 4201, 4206, 4215, 4219; 31 U.S.C. 9701; Pub. L. 105-277, 112 Stat. 2681 et seq.; Pub. L. 108-447, 118 Stat. 2809 et seq.; E.O. 10718, 22 FR 4632, 3 CFR, 1954-1958 Comp., p. 382; E.O. 11295, 31 FR 10603, 3 CFR, 1966-1970 Comp., p. 570.

2. Section 22.1 is amended by revising entry 3 of the table to read as follows:

§ 22.1 Schedule of Fees.

* * * * *

Schedule of Fees for Consular Services
Item No. | Fee
Passport and Citizenship Services
* * * * * * *
3. Expedited Service: Passport processing within expedited processing period published on the Department's Web site (22 CFR 51.66(b))/or in-person service at a U.S. Passport Agency (not applicable abroad) | $60
* * * * * * *

PART 51—PASSPORTS

4. The authority citation for part 51 continues to read as follows:

Authority: 22 U.S.C. 211a, 213, 2651a, 2671(d)(3), 2714, and 3926; 31 U.S.C. 9701; E.O. 11295, 3 CFR, 1966-1970 Comp. p. 570; Sec. 236 Pub. L. 106-113, 113 stat. 1501A-430; 18 U.S.C. 1621(a)(2); 42 U.S.C. 652, as amended by Sec. 370 Pub. L. 104-193 and Sec. 7303 Pub. L. 109-171.

5. Section 51.66(b) is revised to read as follows:

§ 51.66 Expedited passport processing.

* * * * *

(b) Expedited passport processing shall mean completing processing within the number of business days published on the Department's Web site, http://www.travel.state.gov, commencing when the application reaches a Passport Agency or, if the application is already with a Passport Agency commencing when the request for expedited processing is approved. The processing will be considered completed when the passport is ready to be picked up by the applicant or is mailed to the applicant.

* * * * *

Dated: August 13, 2007.
Maura Harty,
Assistant Secretary, Consular Affairs, Department of State.

[FR Doc. E7-16173 Filed 8-15-07; 8:45 am]

BILLING CODE 4710-06-P